DEPARTMENT OF LABOR

Mine Safety and Health Administration

30 CFR Parts 56 and 57

RIN 1219-AB70

Metal and Nonmetal Dams

AGENCY: Mine Safety and Health Administration, Labor.

ACTION: Extension of comment period.

SUMMARY: The Mine Safety and Health Administration (MSHA) is extending the comment period for its Advance Notice of Proposed Rulemaking (ANPRM) published on August 13, 2010. This extension gives commenters additional time to develop responses to questions the Agency asked in the ANPRM concerning the design, construction, operation, and maintenance of safe dams which can assure miners are protected from the hazards of dam failures.

DATES: The comment period will close midnight, Eastern Standard Time, December 13, 2010.

ADDRESSES: Comments must be clearly identified and may be submitted by any of the following methods:

(1) Federal Rulemaking Portal: http://www.regulations.gov. Follow the instructions for submitting comments.

(2) Electronic mail: zzMSHA-Comments@dol.gov. Include “RIN 1219-AB56” in the subject line of the message.

(3) Telefax: (202) 693-9441. Include “RIN 1219-AB56” in the subject.

(4) Regular Mail: MSHA, Office of Standards, Regulations, and Variances, 1100 Wilson Blvd., Room 2350, Arlington, Virginia, 22209-3939.

(5) Hand Delivery or Courier: MSHA, Office of Standards, Regulations, and Variances, 1100 Wilson Blvd., Room 2350, Arlington, Virginia 22209-3939. Sign in at the receptionist's desk on the 21st floor.

(6) Docket: Comments can be accessed electronically at http://www.msha.gov/regsinfo.htm. MSHA will post all comments on the Internet without change, including any personal information provided. Comments may also be reviewed at the Office of Standards, Regulations, and Variances, 1100 Wilson Blvd., Room 2350, Arlington, Virginia. Sign in at the receptionist's desk on the 21st floor.

MSHA maintains a list that enables subscribers to receive e-mail notification when the Agency publishes rulemaking documents in the Federal Register. To subscribe, go to http://www.msha.gov/subscriptions/subscribe.aspx.

FOR FURTHER INFORMATION CONTACT: Patricia W. Silvey, Director, Office of Standards, Regulations, and Variances, MSHA, 1100 Wilson Boulevard, Room 2350, Arlington, Virginia 22209-3939. Ms. Silvey can be reached at Silvey.Patricia@dol.gov (Internet E-mail), (202) 693-9440 (voice), or (202) 693-9441 (facsimile). This notice is available on the Internet at http://www.msha.gov/REGSINFO.HTM.

SUPPLEMENTARY INFORMATION: On August 13, 2010, MSHA published an Advance Notice of Proposed Rulemaking (75 FR 49429) asking interested parties to comment on measures to assure that metal and nonmetal mine operators design, construct, operate and maintain dams in a safe manner to protect miners against the hazards of a dam failure.

In response to requests, MSHA is extending the comment period from October 12, 2010 to December 13, 2010. This allows commenters additional time to review the questions and submit responses. All comments and other appropriate data must be submitted by midnight, Eastern Standard Time, December 13, 2010.

Dated: October 1, 2010.
Joseph A. Main,
Assistant Secretary for Mine Safety and Health.

[FR Doc. 2010-25248 Filed 10-6-10; 8:45 am]

BILLING CODE 4510-43-P